DEPARTMENT OF HEALTH AND HUMAN SERVICES

Health Resources and Services Administration

Cooperative Agreement to the Fund for the City of New York, on Behalf of the New York City Department of Health and Mental Hygiene and the Fund for Public Health in New York, Inc.

AGENCY: Health Resources and Services Administration, DHHS.

ACTION: Notice of award.

Catalog of Federal Domestic Assistance: #93.003.

SUMMARY: Notice is hereby given that a noncompetitive cooperative agreement award is being made to the Fund for the City of New York, on behalf of the New York City Department of Health and Mental Hygiene and the Fund for Public Health in New York, Inc. The award is being made to support the efforts of the New York City Department of Health and Mental Hygiene to develop model approaches for addressing the special needs of high density metropolitan areas with high levels of risk for bioterrrorism attacks and other public health emergencies.

This eighteen month agreement at a level of $5 million is being funded non-competitively because it is expected to provide useful information and guidance to this Department and to other health departments and levels of government regarding how to deal with threats and actual events in high density areas at high risk for attacks. One area of particular interest is developing and evaluating best practice guidelines for emergency preparedness in primary care settings. This includes developing effective models of clinic training. There has been concern expressed that the Federally Qualified Health Centers have not been sufficiently involved in regional planning for, and preparing to respond to, a bioterrorist event or other public health emergency. These clinics will likely serve a role with regard to triaging victims, as well as potentially offering mass prophylaxis. This effort will be designed to develop best practice guidelines and recommendations for primary care emergency management; develop an educational curriculum to disseminate best emergency practices to primary care centers; and test, evaluate and refine the guidelines, training curriculum, and template drills to share with primary care centers citywide.

A second area of interest is preparation of terrorism preparedness exercises. It is important to identify operational strengths and opportunities for improvement through simulated exercises. Practical exercises or drills should both reinforce knowledge and uncover opportunities for improvement in written disaster plans. Biological disaster exercises should be of sufficient intensity to challenge the management and response operations during the exercise, in a way similar to what would be expected during an actual biological terrorist event. The goal is to develop and disseminate a group of hospital-based, validated, Web-accessible bioterrorism preparedness tabletop exercises.

Because of its population density, experience with previous terrorist attacks, and subsequent efforts to build a response capacity, New York City is uniquely qualified to demonstrate model approaches that would inform regional or national preparedness efforts. A strong evaluation focus is built into the entire project to ensure that products are produced which will allow other metropolitan areas to replicate successful elements of the project.

Authority: This award will be made pursuant to section 241 (Evaluation of Programs) of the Public Health Service Act as well as section 319C of the Public Health Service Act (Hospital Preparedness for and Response to Bioterrorism and Other Public Health Emergencies), CFDA#93.003.

FOR FURTHER INFORMATION CONTACT: Michael Millman, Director, Division of Information and Analysis, Office of Planning and Evaluation, Health Resources and Services Administration, Parklawn Building, Room 14-45, 5600 Fishers Lane, Rockville, MD 20857, Phone 301-443-0368.

Dated: August 14, 2003.
Elizabeth M. Duke,
Administrator.

[FR Doc. 03-24489 Filed 9-26-03; 8:45 am]

BILLING CODE 4165-15-P